DEPARTMENT OF THE TREASURY

Office of Thrift Supervision

Imperial Savings and Loan Association, Martinsville, VA; Notice of Appointment of Receiver

Notice is hereby given that, pursuant to the authority contained in section 5(d)(2) of the Home Owners' Loan Act, the Office of Thrift Supervision has duly appointed the Federal Deposit Insurance Corporation as sole Receiver for Imperial Savings and Loan Association, Martinsville, Virginia (OTS No. 7270) on August 20, 2010.

Dated: August 26, 2010.
By the Office of Thrift Supervision.
Sandra E. Evans,
Federal Register Liaison.

[FR Doc. 2010-21856 Filed 9-1-10; 8:45 am]

BILLING CODE 6720-01-M